DEPARTMENT OF EDUCATION

[CFDA Nos. 84.019A, 84.021A, 84.022A]

Office of Postsecondary Education; Fulbright-Hays Faculty Research Abroad Fellowship Program, Fulbright-Hays Group Projects Abroad Program, and Fulbright-Hays Doctoral Dissertation Research Abroad Fellowship Program

Notice inviting applications for new awards for fiscal year (FY) 2002.

Purpose of Programs: (a) The Faculty Research Abroad Fellowship Program offers opportunities to faculty members of institutions of higher education for research and study in modern foreign languages and area studies.

(b) The Group Projects Abroad Program supports overseas projects in training, research, and curriculum development in modern foreign languages and area studies for groups of teachers, students, and faculty engaged in a common endeavor. Projects may include advanced intensive language projects, short-term seminars, curriculum development, or group research or study.

(c) The Doctoral Dissertation Research Abroad Fellowship Program provides opportunities for graduate students to engage in full-time dissertation research abroad in modern foreign languages and area studies.

Eligible Applicants: (a) Institutions of higher education are eligible to participate in the Faculty Research Abroad Fellowship Program and the Doctoral Dissertation Research Abroad Fellowship Program.

(b) Institutions of higher education, State departments of education, nonprofit private educational organizations, and consortia of these entities are eligible to participate in the Group Projects Abroad Program.

DATES: The dates of availability of applications and the deadlines for the transmittal of applications under each of these competitions are listed in the chart in this notice.

Estimated Available Funds: The Administration has requested for FY 2002 (a) $1,400,000 for the Faculty Research Abroad Fellowship Program; (b) $3,459,000 for the Group Projects Abroad Program; and (c) $3,141,000 for the Doctoral Dissertation Research Abroad Fellowship Program. The actual level of funding, if any, depends on final congressional action. However, we are inviting applications to allow enough time to complete the grant process if Congress appropriates funds for these programs.

CFDA number and name of program | Applications available | Deadline for transmittal of applications | Estimated range of awards | Estimated average size of awards | Estimated number of awards | Project period
84.019A Fulbright-Hays Faculty Research Abroad Fellowship Program | September 12, 2001 | October 29, 2001 | $10,000-100,000 | $46,667 | 30 fellowships | 3-12 months.
84.021A Fulbright-Hays Group Projects Abroad Program | September 5, 2001 | October 22, 2001 | 35,000-200,000 | 72,063 | 48 | 4-6 weeks for short-term seminars and curriculum development projects. 3-12 months for group research or study projects. 36 months for advanced intensive language projects.
84.022A Fulbright-Hays Doctoral Dissertation Research Abroad Fellowship Program | September 12, 2001 | October 29, 2001 | 10,000-70,000 | 26,846 | 117 fellowships | 6-12 months.
Note: The Department is not bound by any estimates in this notice.

Applicable Regulations: (a) The Education Department General Administrative Regulations (EDGAR) in 34 CFR parts 74, 75, 77, 80, 81, 82, 85, and 86; and (b) The regulations for these programs as follows: 34 CFR part 662 governing the Fulbright-Hays Doctoral Dissertation Research Abroad Fellowship Program; 34 CFR part 663 governing the Fulbright-Hays Faculty Research Abroad Fellowship Program; and 34 CFR part 664 governing the Fulbright-Hays Group Projects Abroad Program.

Note: The regulations in 34 CFR part 86 apply to institutions of higher education only.

Priorities

Fulbright-Hays Faculty Research Abroad Fellowship Program and Fulbright-Hays Doctoral Dissertation Research Abroad Fellowship Program

These competitions focus on projects designed to meet the following priority established by the Secretary for the Fulbright-Hays Doctoral Dissertation Research Abroad Fellowship Program (34 CFR 662.21(d)) and the Fulbright-Hays Faculty Research Abroad Fellowship Program (34 CFR 663.21(d)):

A research project funded under this priority must focus on one or more of the following areas: Africa, East Asia, Southeast Asia and the Pacific, South Asia, the Near East, East Central Europe and Eurasia, and the Western Hemisphere (Canada, Central and South America, Mexico, and the Caribbean). Please note that applications that propose projects focused on Western Europe will not be funded.

For FY 2002 this priority is an absolute priority. Under 34 CFR 75.105(c)(3) we consider only applications that meet the priority.

Fulbright-Hays Group Projects Abroad Program

This competition focuses on projects designed to meet the following priority established by the Secretary for this program (34 CFR 664.32(a)(2)):

A group project funded under this priority must focus on one or more of the following areas: Africa, East Asia, South Asia, Southeast Asia and the Pacific, the Western Hemisphere (Central and South America, Mexico, and the Caribbean), East Central Europe and Eurasia, and the Near East. Please note that applications that propose projects focused on Canada or Western Europe will not be funded.

For FY 2002 this priority is an absolute priority. Under 34 CFR 75.105(c)(3) we consider only applications that meet the priority.

Competitive Priority

Within the absolute priority specified in this notice for the Fulbright-Hays Group Projects Abroad Program, this competition focuses on projects designed to meet the following priority (34 CFR 664.30(b) and 34 CFR 664.31(g)):

Short-term seminars that develop and improve foreign language and area studies at elementary and secondary schools.

Under 34 CFR 75.105(c)(2)(i) we award up to an additional five points to an application, depending on how well the application meets the priority.

Invitational Priority

Within the absolute priority specified in this notice for the Fulbright-Hays Group Projects Abroad Program, we are particularly interested in applications that meet the following invitational priority:

Group study projects that provide opportunities for regionally or nationally recruited undergraduate students to study in a foreign country for either a semester or a full academic year.

Under 34 CFR 75.105(c)(1) we do not give an application that meets the invitational priority a competitive or absolute preference over other applications.

For Applications and Further Information Contact

Applications for all the programs are available at: www.ed.gov/offices/OPE/HEP/iegps/

Faculty Research Abroad Fellowship Program: Eliza Washington, U.S. Department of Education, International Education and Graduate Programs Service, 1990 K Street, NW., 6th Floor, Washington, DC 20006-8521. Telephone: (202) 502-7633, or via Internet: eliza.washington@ed.gov.

Group Projects Abroad Program: Lungching Chiao, U.S. Department of Education, International Education and Graduate Programs Service, 1990 K Street, NW., 6th Floor, Washington, DC 20006-8521. Telephone: (202) 502-7624, or via Internet: lungching.chiao@ed.gov.

Doctoral Dissertation Research Abroad Fellowship Program: Karla Ver Bryck Block, U.S. Department of Education, International Education and Graduate Programs Service, 1990 K Street, NW., 6th Floor, Washington, DC 20006-8521. Telephone: (202) 502-7632, or via Internet: karla.verbryckblock@ed.gov.

If you use a telecommunications device for the deaf (TDD), you may call the Federal Information Relay Service (FIRS) at 1-800-877-8339.

Individuals with disabilities may obtain this document in an alternative format (e.g., Braille, large print, audiotape, or computer diskette) on request to the program contact persons listed under For Applications and Further Information Contact.

Individuals with disabilities may obtain a copy of the application package in an alternative format by contacting those persons. However, the Department is not able to reproduce in an alternative format the standard forms included in the application package.

Electronic Access to This Document

You may view this document, as well as all other Department of Education documents published in the Federal Register, in text or Adobe Portable Document Format (PDF) on the Internet at the following site: http://www.ed.gov/legislation/FedRegister/.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.access.gpo.gov/nara/index.html.

Program Authority: 22 U.S.C. 2452(b)(6).

Dated: August 29, 2001.
Maureen A. McLaughlin,
Deputy Assistant Secretary for Policy, Planning and Innovation, Office of Postsecondary Education.

[FR Doc. 01-22187 Filed 9-4-01; 8:45 am]

BILLING CODE 4000-01-U